DEPARTMENT OF DEFENSE

Office of the Secretary

[Docket ID: DoD-2019-HA-0066]

Submission for OMB Review; Comment Request

AGENCY: Office of the Assistant Secretary of Defense for Health Affairs, DoD.

ACTION: 30-day information collection notice.

SUMMARY: The Department of Defense has submitted to OMB for clearance the following proposal for collection of information under the provisions of the Paperwork Reduction Act.

DATES: Consideration will be given to all comments received by October 18, 2019.

ADDRESSES: Comments and recommendations on the proposed information collection should be emailed to Mr. Josh Brammer, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Assessment of Real Warriors Campaign's Impact on Negative Perceptions About Mental Health Conditions and Treatment and Awareness of Resources; OMB Control Number 0720-XXXX.

Type of Request: New.

Number of Respondents: 2,772.

Responses per Respondent: 3.

Annual Responses: 8,316.

Average Burden per Response: 6.33 minutes.

Annual Burden Hours: 877.338.

Needs and Uses: The information collection requirement is necessary to conduct an online study testing the potential for influence of the Real Warriors Campaign—a Department of Defense (DoD) mental health public awareness campaign—on participants of an online panel. Military service members, veterans, and friends and family members of service members and veterans will be recruited from the panel. They will complete online surveys and view mental health public awareness campaign materials (e.g., public service announcements websites). The purpose of this research is to evaluate how exposure to this federally-funded mental health public awareness campaign changes key outcomes related to mental health and health care, such as mental health awareness (e.g., knowing how to recognize and support someone with a mental health problem), perceptions and beliefs about stigma and other barriers to care (e.g., social distance, concerns about career impacts), attitudes towards seeking professional help, intentions to seek treatment if needed, and intentions to conceal a mental health problem. DoD will use the findings from these analyses to improve the Real Warriors campaign. Additionally, the findings from the study will be shared through publicly available communications.

Affected Public: Individuals or households.

Frequency: As required.

Respondent's Obligation: Voluntary.

OMB Desk Officer: Mr. Josh Brammer.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: September 12, 2019.
Aaron T. Siegel,
Alternate OSD Federal Register, Liaison Officer, Department of Defense.

[FR Doc. 2019-20155 Filed 9-17-19; 8:45 am]

BILLING CODE 5001-06-P